DEPARTMENT OF TRANSPORTATION

Federal Aviation Administration

14 CFR Part 39

[Docket No. FAA-2021-0021; Project Identifier MCAI-2020-01088-R; Amendment 39-21419; AD 2021-03-16]

RIN 2120-AA64

Airworthiness Directives; Airbus Helicopters

AGENCY: Federal Aviation Administration (FAA), Department of Transportation (DOT).

ACTION: Final rule; request for comments.

SUMMARY: The FAA is adopting a new airworthiness directive (AD) for Airbus Helicopters Model AS350B, AS350B1, AS350B2, AS350B3, AS350BA, AS350D, AS355E, AS355F, AS355F1, AS355F2, AS355N, and AS355NP helicopters. This AD was prompted by the in-flight loss of a sliding door. This AD requires inspecting each sliding door and replacing the upper rail or front roller or removing the front roller from service if necessary. The actions of this AD are intended to address an unsafe condition on these products.

DATES: This AD becomes effective March 3, 2021.

The Director of the Federal Register approved the incorporation by reference of certain documents listed in this AD as of March 3, 2021.

The FAA must receive comments on this AD by April 2, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2021-0021; or in person at Docket Operations between 9 a.m. and 5 p.m., Monday through Friday, except Federal holidays. The AD docket contains this AD, the European Union Aviation Safety Agency (EASA) AD, any service information that is incorporated by reference, any comments received, and other information. The street address for Docket Operations is listed above. Comments will be available in the AD docket shortly after receipt.

For service information identified in this final rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177. It is also available on the internet at https://www.regulations.gov by searching for and locating Docket No. FAA-2021-0021.

FOR FURTHER INFORMATION CONTACT: Matt Fuller, AD Program Manager, Operational Safety Branch, Airworthiness Products Section, General Aviation & Rotorcraft Unit, FAA, 10101 Hillwood Pkwy., Fort Worth, TX 76177; telephone 817-222-5110; email matthew.fuller@faa.gov.

SUPPLEMENTARY INFORMATION:

Comments Invited

The FAA invites you to send any written data, views, or arguments about this final rule. Send your comments to an address listed under ADDRESSES. Include “Docket No. FAA-2021-0021 and Project Identifier MCAI-2020-01088-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Matt Fuller, AD Program Manager, Operational Safety Branch, Airworthiness Products Section, General Aviation & Rotorcraft Unit, FAA, 10101 Hillwood Pkwy., Fort Worth, TX 76177; telephone 817-222-5110; email matthew.fuller@faa.gov. Any commentary that the FAA receives which is not specifically designated as CBI will be placed in the public docket for this rulemaking.

Discussion

EASA, which is the Technical Agent for the Member States of the European Union, has issued AD No. 2020-0175, dated August 5, 2020 (EASA AD 2020-0175), for all serial-numbered Airbus Helicopters Model AS 350 and AS 355 helicopters if equipped with a left-hand (LH) and/or right-hand (RH) sliding door. EASA advises that an AS 350 B3 helicopter lost the LH door in-flight. The event occurred while flying with the door locked in the open position. The results of the technical analysis of this event indicated that the loss of the sliding door resulted from the disengagement of the roller from the upper rail. This condition, if not detected and corrected, could lead to sliding door in-flight detachment, possibly resulting in damage to the helicopter, and/or injury to persons on the ground. EASA also advises that this scenario may also develop on AS 355 helicopters sliding doors due to design similarity. Accordingly, EASA AD 2020-0175 requires a one-time detailed inspection of the LH and/or RH sliding doors and, depending on findings, accomplishment of applicable corrective actions.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of the same type designs.

Related Service Information Under 1 CFR Part 51

Airbus Helicopters has issued Alert Service Bulletin (ASB) No. AS350-52.00.54 and ASB No. AS355-52.00.32, each Revision 1 and each dated July 30, 2020 (ASB AS350-52.00.54 and ASB AS355-52.00.32). ASB AS350-52.00.54 applies to Model AS350-series helicopters and ASB AS355-52.00.32 applies to Model AS355-series helicopters. The ASBs specify inspecting the upper rail and roller of the of the LH and/or RH sliding doors by inspecting the upper rail, and making sure that the parallelism between the sliding door and its frame is correct, that the front roller is in good condition, and that the installation of the front roller is correct. The ASBs also specify notifying Airbus Helicopters if any part is replaced and providing the part number of the part replaced and the serial number and time since new of the helicopter.

This service information is reasonably available because the interested parties have access to it through their normal course of business or by the means identified in the ADDRESSES section.

AD Requirements

This AD requires, within 30 hours time-in-service (TIS) after the effective date of this AD, inspecting the upper rail of each RH and LH door for parallelism, deformation, corrosion, and cracking and repairing or replacing the upper rail before further flight if necessary; and with each sliding door removed, inspecting the front roller to determine if it is below the minimum diameter and height, if it has any corrosion or flat spot, and if it is correctly installed. If the front roller is below the minimum diameter, below the minimum height, or has any flat spot or corrosion, this AD requires removing the front roller from service before further flight. If the front roller was not correctly installed, this AD requires reinstalling it correctly before further flight.

Differences Between This AD and the EASA AD

Due to a recent additional report of an in-flight door loss, this AD requires compliance within 30 hours TIS after the effective date of the AD; EASA AD 2020-0175 requires compliance within 165 flight hours or 13 months and 6 days, whichever occurs first. The EASA AD requires reporting information to Airbus Helicopters; this AD does not.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 965 helicopters of U.S. Registry and that operators may incur the following costs in order to comply with this AD. Labor costs are $85 per work-hour.

Inspecting each door will take about 2 work-hours for an estimated cost of $170 per helicopter and $164,050 for the U.S. fleet.

Replacing each upper rail, if necessary, will take about 3 work-hours and parts will cost about $3,200, for an estimated cost of $3,455 per door.

Replacing each front roller, if necessary, will take about 1 work-hour and parts will cost about $250 for an estimated cost of $335 per door.

FAA's Justification and Determination of the Effective Date

Section 553(b)(3)(B) of the Administrative Procedure Act (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies waiving notice and comment prior to adoption of this rule because an initial action is required within 30 hours TIS, which could equate to 1 month in these high usage rotorcraft; and corrective action, if necessary, is required before further flight. Therefore, notice and opportunity for prior public comment are impracticable and contrary to public interest pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-03-16 Airbus Helicopters: Amendment 39-21419; Docket No. FAA-2021-0021; Project Identifier MCAI-2020-01088-R.

(a) Applicability

This airworthiness directive (AD) applies to Airbus Helicopters Model AS350B, AS350B1, AS350B2, AS350B3, AS350BA, AS350D, AS355E, AS355F, AS355F1, AS355F2, AS355N, and AS355NP helicopters, certificated in any category, with any sliding door installed.

(b) Unsafe Condition

This AD defines the unsafe condition as an in-flight loss of a sliding door, which could result in damage to the helicopter or injury to persons on the ground.

(c) Affected ADs

None.

(d) Effective Date

This AD becomes effective March 3, 2021.

(e) Compliance

You are responsible for performing each action required by this AD within the specified compliance time unless it has already been accomplished prior to that time.

(f) Required Actions

Within 30 hours time-in-service after the effective date of this AD:

(1) Inspect the upper rail of each right hand (RH) and left hand (LH) door for parallelism, deformation, corrosion, and cracking. If necessary, adjust the sliding door, ensuring that the parallelism between the sliding door and its frame does not exceed 1.5 mm (.059 in) on a length of 1,200 mm (47.24 in). The frame includes the sliding door, the overhead panel, and the two rear bulkheads. Repair or replace the upper rail before further flight if there is any deformation, corrosion, or cracking.

(2) With the sliding door removed, inspect the front roller to determine if it is below the minimum diameter of 17.5 mm (0.69 in), below the minimum height of 17 mm (0.67 in), if it has any corrosion or flat spot, and to determine if it is correctly installed per Figure 1 of Airbus Alert Service Bulletin (ASB) No. AS350-52.00.54 or ASB No. AS355-52.00.32, each at Revision 1 and dated July 30, 2020, as applicable to your helicopter model. If the front roller is below the minimum diameter, below the minimum height, or has any flat spot or corrosion, before further flight, remove the front roller from service. If the front roller was not correctly installed, reinstall it correctly before further flight.

(g) Alternative Methods of Compliance (AMOCs)

(1) The Manager, Strategic Policy Rotorcraft Section, FAA, may approve AMOCs for this AD. Send your proposal to: Matt Fuller, AD Program Manager, Operational Safety Branch, Airworthiness Products Section, General Aviation & Rotorcraft Unit, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggest that you notify your principal inspector, or lacking a principal inspector, the manager of the local flight standards district office or certificate holding district office, before operating any aircraft complying with this AD through an AMOC.

(h) Additional Information

The subject of this AD is addressed in European Union Aviation Safety Agency (EASA) AD No. 2020-0175, dated August 5, 2020. You may view the EASA AD on the internet at https://www.regulations.gov by searching for and locating it in Docket No. FAA-2021-0021.

(i) Subject

Joint Aircraft Service Component (JASC) Code: 5210 Passenger/Crew Doors.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin No. AS350-52.00.54, Revision 1, dated July 30, 2020.

(ii) Airbus Helicopters Alert Service Bulletin No. AS355-52.00.32, Revision 1, dated July 30, 2020.

(3) For Airbus Helicopters service information identified in this AD, contact Airbus Helicopters, 2701 N Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on January 29, 2021.
Gaetano A. Sciortino,
Deputy Director for Strategic Initiatives, Compliance & Airworthiness Division, Aircraft Certification Service.

[FR Doc. 2021-03063 Filed 2-10-21; 4:15 pm]

BILLING CODE 4910-13-P